DEPARTMENT OF COMMERCE

International Trade Administration

[A-570-868]

Folding Metal Tables and Chairs From the People's Republic of China: Extension of Time Limit for the Final Results of the Antidumping Duty Administrative Review

AGENCY: Import Administration, International Trade Administration, Department of Commerce.

DATES: Effective Date: December 9, 2009.

FOR FURTHER INFORMATION CONTACT: Giselle Cubillos, AD/CVD Operations, Office 8, Import Administration, International Trade Administration, U.S. Department of Commerce, 14th Street and Constitution Avenue, NW., Washington, DC 20230; telephone: (202) 482-1778.

SUPPLEMENTARY INFORMATION:

Background

On July 30, 2008, the Department of Commerce (“Department”) published the initiation of the administrative review of the antidumping duty order on folding metal tables and chairs from the People's Republic of China (“PRC”). See Initiation of Antidumping and Countervailing Duty Administrative Reviews, Request for Revocation in Part, and Deferral of Administrative Review, 73 FR 44220 (July 30, 2008). On July 7, 2009, the Department published the preliminary results of review. See Folding Metal Tables and Chairs from the People's Republic of China: Preliminary Results of Antidumping Duty Administrative Review, 74 FR 32118 (July 7, 2009). This review covers the period June 1, 2007, through May 31, 2008.

Extension of Time Limit for Final Results of Review

Pursuant to section 751(a)(3)(A) of the Tariff Act of 1930, as amended (“Act”), the Department shall make a final determination in an administrative review of an antidumping duty order within 120 days after the date on which the preliminary results are published. The Act further provides that the Department may extend that 120-day period to 180 days after the preliminary results if it determines it is not practicable to complete the review within the foregoing time period.

On November 4, 2009, the Department published a notice extending the time limit until December 4, 2009, for the final results of this administrative review. See Folding Metal Tables and Chairs from the People's Republic of China: Extension of Time Limit for the Final Results of Antidumping Duty Administrative Review, 74 FR 57146 (November 4, 2009).

The Department now finds that it is not practicable to complete the final results of the administrative review of folding metal tables and chairs from the PRC within the current deadline due to complex issues the parties have raised related to surrogate financial statements and market-economy purchases. We find that additional time is needed to complete these final results. Therefore, in accordance with section 751(a)(3)(A) of the Act, the Department is extending by 14 days the time period for completion of the final results of this review. This extension makes these final results due 164 days after the date on which the preliminary results were published, i.e., December 18, 2009.

This notice is published in accordance with sections 751(a)(3)(A) and 777(i) of the Act.

Dated: December 3, 2009.
John M. Andersen,
Acting Deputy Assistant Secretary for Antidumping and Countervailing Duty Operations.

[FR Doc. E9-29361 Filed 12-8-09; 8:45 am]

BILLING CODE 3510-DS-P